DEPARTMENT OF TRANSPORTATION

Federal Aviation Administration

14 CFR Part 39

[Docket No. FAA-2008-0107; Directorate Identifier 2007-NM-087-AD]

RIN 2120-AA64

Airworthiness Directives; The Boeing Company Model 747-100, 747-100B, 747-100B SUD, 747-200B, 747-200C, 747-200F, 747-300, 747-400, 747-400D, 747-400F, 747SR, and 747SP Series Airplanes

AGENCY: Federal Aviation Administration (FAA), DOT.

ACTION: Supplemental notice of proposed rulemaking (NPRM); reopening of comment period.

SUMMARY: We are revising an earlier proposed airworthiness directive (AD) for certain Model 747-100, 747-100B, 747-100B SUD, 747-200B, 747-200C, 747-200F, 747-300, 747-400, 747-400D, 747-400F, 747SR, and 747SP series airplanes. The original NPRM would have required inspections for scribe lines in affected lap and butt splices, wing-to-body fairings locations, and external repair and cutout reinforcement areas; and related investigative and corrective actions if necessary. The original NPRM resulted from reports of scribe lines found at lap joints and butt joints, around external doublers and antennas, and at locations where external decals had been cut. This action revises the original NPRM by revising certain compliance times including reducing the compliance time for certain repetitive inspections. This supplemental NPRM also proposes to add inspections for certain airplanes. We are proposing this AD to detect and correct scribe lines, which can develop into fatigue cracks in the skin and cause sudden decompression of the airplane.

DATES: We must receive comments on this supplemental NPRM by September 24, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Nicholas Han, Aerospace Engineer, Airframe Branch, ANM-120S, FAA, Seattle Aircraft Certification Office, 1601 Lind Avenue, SW., Renton, Washington 98057-3356; telephone (425) 917-6449; fax (425) 917-6590.

SUPPLEMENTARY INFORMATION:

Comments Invited

We invite you to send any written relevant data, views, or arguments about this proposed AD. Send your comments to an address listed under the ADDRESSES section. Include “Docket No. FAA-2008-0107; Directorate Identifier 2007-NM-087-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued a notice of proposed rulemaking (NPRM) (the “original NPRM”) to amend 14 CFR part 39 to include an airworthiness directive (AD) that would apply to certain Model 747-100, 747-100B, 747-100B SUD, 747-200B, 747-200C, 747-200F, 747-300, 747-400, 747-400D, 747-400F, 747SR, and 747SP series airplanes. That original NPRM was published in the Federal Register on January 31, 2008 (73 FR 5768). That original NPRM proposed to require inspections for scribe lines in affected lap and butt splices, wing-to-body fairing locations, and external repair and cutout reinforcement areas; and related investigative and corrective actions if necessary.

Actions Since Original NPRM Was Issued

Since we issued the original NPRM, Boeing has issued Service Bulletin 747-53A2563, Revision 3, dated June 11, 2009; and Service Bulletin 747-53A2563, Revision 4, dated May 6, 2010. The procedures in Revision 3 are essentially the same as those in Boeing Service Bulletin 747-53A2563, Revision 2, dated January 3, 2008, which we referred to as the appropriate source of service information for accomplishing the actions proposed in the original NPRM. However, Revision 3 of this service bulletin changes the initial threshold for the inspection at certain lap joints and changes the repeat inspection intervals (including some reductions in inspection intervals) for many lap joint inspection areas. Revision 3 of this service bulletin also adds more work for airplanes that were previously inspected in Area 1 and Area 2 in accordance with Boeing Alert Service Bulletin 747-53A2563, dated March 29, 2007; Boeing Alert Service Bulletin 747-53A2563, Revision 1, dated November 8, 2007; or Boeing Service Bulletin 747-53A2563, Revision 2, dated June January 3, 2008.

Boeing Service Bulletin 747-53A2563, Revision 4, dated May 6, 2010:

• Revises the repeat inspection interval data for lap joint and butt joint areas that have scribe damage which are inspected under the Limited Return to Service (LRTS) inspection program.

• For airplanes identified as Group 2, Group 3 Configuration 2, Group 4, Group 6, and Group 8 airplanes in Boeing Service Bulletin 747-53A2563, Revision 4, dated May 6, 2010: Adds detailed inspections for scribe lines of the S-18L lap splice from station (STA) 1780 to STA 1920 (on the main deck side cargo door) to inspection area 3.

• For airplanes identified as Group 1 and Group 2 airplanes in Boeing Service Bulletin 747-53A2563, Revision 4, dated May 6, 2010: Adds detailed inspections for scribe lines of the S34R lap splice from STA 1810 to STA 1920 (on the aft lower lobe cargo door).

• For airplanes identified as Group 3 and Group 4 airplanes in Boeing Service Bulletin 747-53A2563, Revision 4, dated May 6, 2010: Adds detailed inspections for scribe lines of the S-6L and S-6R lap splice from STA 1000 to 1220 to inspection area 3.

• Adds general repair instructions for lap joint locations with scribe lines, but no cracks in Paragraph 3.B. of Part 17 in the work instructions and in a new Appendix F.

Boeing Service Bulletin 747-53A2563, Revision 4, dated May 6, 2010, adds more work for Group 1, Group 2, Group 3, Group 4, Group 6, and Group 8 airplanes that were previously inspected in Area 3 in accordance with the original issue, dated March 29, 2007; Revision 2, dated January 3, 2008; or Revision 3, dated June 11, 2009; of Boeing Service Bulletin 747-53A2563. Boeing Service Bulletin 747-53A2563, Revision 4, dated May 6, 2010, specifies that at the time given in Table 29 of Paragraph 1.E., “Compliance,” of Boeing Service Bulletin 747-53A2563, Revision 4, dated May 6, 2010, certain lap splices are inspected in accordance with Paragraph 3.B., Work Instructions, PART 19.

Boeing Service Bulletin 747-53A2563, Revision 4, dated May 6, 2010, specifies that no more work is necessary on Group 5, Group 7, and Group 9 airplanes that were inspected in accordance with Boeing Service Bulletin 747-53A2563, Revision 3, dated June 11, 2009.

Boeing Service Bulletin 747-53A2563, Revision 4, dated May 6, 2010, states that if scribe lines were found previously and are being inspected as part of the LRTS program, the repeat inspections are done in accordance with Boeing Service Bulletin 747-53A2563, Revision 4, dated May 6, 2010.

Requests To Delay AD Issuance Pending Revised Service Information

Japan Airlines (JAL) reports that certain structures prevented the accomplishment of the inspection specified in Boeing Service Bulletin 747-53A2563, Revision 2, dated January 3, 2008. JAL therefore believes that more detailed information in the service bulletin is necessary to prevent operator inconvenience. We infer that the commenter is requesting that we delay issuing the final rule until Boeing Service Bulletin 747-53A2563, Revision 2, dated January 3, 2008, is revised to address these concerns.

KLM reports that some of the nondestructive test (NDT) inspections could not be performed according to the procedures specified in Boeing Service Bulletin 747-53A2563, Revision 2, dated January 3, 2008, without modifying the process itself. KLM adds that the inspection areas and details are vague, ambiguous, and subject to misinterpretation. KLM requests that, to eliminate requests for alternative methods of compliance (AMOCs) related to this matter, we delay issuing the final rule until these matters are resolved.

We agree that clarification may be necessary. While the commenters did not provide specific details of the difficulties they encountered, Boeing Service Bulletin 747-53A2563, Revision 4, dated May 6, 2010, clarifies multiple steps and procedures as described previously. We have revised this supplemental NPRM to refer to Boeing Service Bulletin 747-53A2563, Revision 4, dated May 6, 2010.

Request To Delay AD Issuance Pending Repair Instructions

JAL states that the NPRM would require operators to contact the manufacturer for a method to repair discrepancies. (Although Boeing Service Bulletin 747-53A2563, Revision 4, dated May 6, 2010, specifies this directive, the original and this supplemental NPRM propose to require operators to contact the FAA for a repair method.) JAL anticipates many such inquiries from operators, resulting in delayed responses from the manufacturer. The commenter requests that we delay issuing the final rule until a typical repair is incorporated into the structural repair manual (SRM).

We do not agree with the commenter to delay the final rule until a typical repair can be incorporated into the SRM. Boeing Service Bulletin 747-53A2563, Revision 4, dated May 6, 2010, provides procedures for an inspection to determine the extent of scribe lines on the airplanes. This service bulletin refers to several SRMs as a source of information for repairing cracks. For certain repair instructions, this service bulletin also specifies to contact Boeing for repair instructions; however, paragraph (i) of this supplemental NPRM would require that operators repair in a manner approved by the FAA. In addition, Boeing Service Bulletin 747-53A2563, Revision 4, dated May 6, 2010, provides a LRTS inspection program for scribe lines found during the required inspections. We note the existing Model 747 SRMs referenced in Boeing Service Bulletin 747-53A2563, Revision 4, dated May 6, 2010, have lap splice repairs that are acceptable to repair scribe line damage. We have not changed the supplemental NPRM regarding this issue.

Request To Delay AD Issuance Pending Revised Inspection Interval

JAL notes that the inspection interval is the same from butt joint to butt joint or lap joint to lap joint. JAL states that it understands that the stress value can be provided (i.e., the stress value can vary) from stringer to stringer or frame to frame. Therefore, JAL requests that we wait to issue the final rule until Boeing Service Bulletin 747-53A2563, Revision 2, dated January 3, 2008, is revised to incorporate more detailed inspection intervals.

We infer that the commenter is asking if the repetitive inspection intervals along a lap splice from butt joint to butt joint, or along a butt joint from lap splice to lap splice, may be extended in certain areas if the local stresses are used to determine the repetitive intervals. We do not find any benefit in variable repetitive inspection intervals for a lap splice or butt splice. The repetitive inspection intervals have been determined after a review of the specific stresses the commenter notes, and then the stress that provided the lowest repetitive interval was used to simplify the inspection along a lap or butt splice. If each stringer or frame bay stress were used along the entire joint, the work instructions would become too large to manage and accomplish in a reasonable manner. Also, Boeing has released Boeing Service Bulletin 747-53A2563, Revision 4, dated May 6, 2010, and this revision includes improved data for the repeat inspection interval for lap joint and butt joint areas. We have not changed the supplemental NPRM in regard to this issue.

Request To Revise Inspection Threshold for Certain Airplanes

British Airways (BA) requests that we revise the inspection threshold for certain airplanes. BA states that the proposed inspection thresholds penalize operators of airplanes with lower flight cycles. BA recommends that we review Boeing's Fleet Team Resolution Process Item 04134, which discusses the check level required to accomplish the Area 1 inspections. According to the commenter, operator consensus indicates these inspections will require a D check. BA suggests that airplanes with fewer than 17,500 flight cycles be assigned a threshold of the earlier of the next D check following 15,000 total flight cycles, or 19,000 total flight cycles, whichever is sooner.

We do not agree to revise the inspection threshold for certain airplanes. We reviewed the Boeing Fleet Team Resolution Process Item 04134, which suggests that a D check would be the suitable opportunity to accomplish the scribe line inspections. We do not specify compliance times in terms of “letter checks.” Since maintenance schedules vary among operators, we have determined that the compliance times as proposed are appropriate. The minimum grace period for compliance with this AD is 1,500 flight cycles for airplanes with fewer than 17,500 total flight cycles, which corresponds to approximately 3 years based on a typical utilization of 500 flight cycles per year for long-haul airplanes. A 3-year grace period is sufficient for operators to plan for the scribe line inspections, and will allow for timely data collection for use in developing final action and determining whether this AD should be revised in the future. We have not changed the supplemental NPRM regarding this issue. However, operators may request an AMOC in accordance with the procedures in paragraph (m) of this AD.

Request To Extend Compliance Time for Certain Inspection Locations

Boeing requests that we extend the compliance time for certain inspection locations. Boeing reports that recent engineering analysis has revealed slightly reduced stresses in the STA 1283 butt joint. The resulting greater analytical threshold and interval value would allow for longer compliance times to inspect this location on certain airplanes. Boeing therefore requests that we add the following new paragraph as an additional exception to the service bulletin specifications in the proposed AD:

(i) This AD required performing the inspections of the STA 1283 butt joint on Groups 3 and 4 from STR-4.6 to STR-6 per Service Bulletin 747-53A2563 Revision 2, dated January 3, 2008, except allows this location to be treated as Area 2 rather than Area 1 for the initial inspection threshold and allows a LRTS inspection interval of 1500 flight cycles rather than 500.

Boeing states that this change would be reflected in a future revision to the service bulletin.

We agree with the request. However, since the time that Boeing submitted its comments, Boeing released Service Bulletin 747-53A2563, Revision 4, dated May 6, 2010, which incorporates the inspection and compliance times described above. Because the inspection and times are included in Revision 4 of this service bulletin and we propose to mandate the requirements contained in Boeing Service Bulletin 747-53A2563, Revision 4, dated May 6, 2010, this inspection is no longer a difference between the service bulletin specification and this supplemental NPRM. We have not changed the supplemental NPRM in this regard.

Request To Revise Reporting Requirement

Boeing requests that we revise the reporting requirement, which is paragraph (i) in the NPRM (now identified as paragraph (j) in this supplemental NPRM), to require operators to also report the maximum scribe depth on each airplane. Boeing states that this pertinent information would allow Boeing to better assess the accuracy of the 747 inspection program, and is necessary for Boeing to re-evaluate the accuracy of the overall scribe analysis methodology.

We agree with the request to revise the reporting requirement. The scribe depths must be determined during the mandated inspections, and this intent was included in the phrase in paragraph (i) of the original NPRM that reads “description of any discrepancies found.” However, we have included additional language to clarify the reporting requirement by specifying that scribe depths are to be included in the required report. Including the depth information with the required report, therefore, would create no additional burden to operators. We have revised paragraph (j) of this supplemental NPRM to clarify this requirement.

Request To Limit Data Collection

BA requests that we limit the data collection. BA questions the need for the reporting requirement specified in the NPRM. BA claims that the reports, as they are being submitted, would soon provide Boeing with adequate data to reassess the proposed actions and compliance times (based on the number of affected airplanes). BA recommends that provisions be included in the NPRM to ensure that Boeing and the FAA will reassess the data in a timely manner, after a statistically significant number of data points have been collected—with a view to revising the service bulletin and AD compliance times based on actual data.

We infer that BA is requesting that we eventually remove the reporting requirement from the AD. We partially agree. We do not agree to remove the reporting requirements from this supplemental NPRM. The original NPRM and this supplemental NPRM clearly note that this AD is considered interim action. Data received from the required reporting will be evaluated to help determine whether further rulemaking will be necessary or whether the inspection requirements can be relaxed. We have not changed the supplemental NPRM in this regard.

Request To Provide Additional Detail in the Service Bulletin

KLM notes that Boeing Service Bulletin 747-53A2563, Revision 2, dated January 3, 2008, provides for some relief for un-inspectable locations, but states that this relief is insufficient for several structural details, and no alternative inspection method is available. The commenter provides no further information.

We infer that KLM is requesting that we delay issuance of the final rule until Boeing Service Bulletin 747-53A2563, Revision 2, dated January 3, 2008, is revised to provide the structural details. Boeing has released Boeing Service Bulletin 747-53A2563, Revision 4, dated May 6, 2010, which provides more information regarding inspections. We have revised this supplemental NPRM to refer to Boeing Service Bulletin 747-53A2563, Revision 4, dated May 6, 2010, as the appropriate source of service information in this supplemental NPRM.

Request To Stipulate Credit Conditions

Boeing states that paragraph (j) of the NPRM indicated that operators could receive credit for inspections done before the effective date of the AD according to the Boeing Alert Service Bulletin 747-53A2563, dated March 29, 2007. But, as Boeing notes, operators who inspected using Boeing Alert Service Bulletin 747-53A2563, dated March 29, 2007, would not likely have inspected STA 1283, a new area of inspection added in Boeing Service Bulletin 747-53A2563, Revision 2, dated January 3, 2008, and included in the original NPRM. Boeing therefore requests that we revise paragraph (j) of the NPRM (which is now paragraph (l) of the supplemental NPRM) to include the following provisions related to this inspection area:

• Required inspection for scribe damage of the STA 1283 butt joint on Groups 3 and 4 from STR-4.5 to STR-6 in accordance with Boeing Service Bulletin 747-53A2563, Revision 2, dated January 3, 2008;

• A compliance time within 1,500 flight cycles after the effective date of this AD or before the threshold cycle limit corresponding to the Area 2 inspection, whichever occurs later; and

• Repair of scribe damage as specified in paragraph (f) of the NPRM (which is now paragraph (g) of the supplemental NPRM).

We agree, for the reasons provided by the commenter. However, since the time that Boeing submitted its comments, it issued Service Bulletin 747-53A2563, Revision 4, dated May 6, 2010, which incorporates the inspection and compliance times described above along with other inspections required for airplanes that were previously inspected in accordance with earlier issues of this service bulletin. Because the referenced inspection and times are included in Revision 4 of this service bulletin and we propose to mandate the requirements contained in Revision 4 of this service bulletin, there is no need to state this requirement specifically. Rather, we have added a new paragraph (k) to this supplemental NPRM to require certain actions done in accordance with Boeing Service Bulletin 747-53A2563, Revision 4, dated May 6, 2010, for airplanes that were previously inspected in accordance with Boeing Alert Service Bulletin 747-53A2563, dated March 29, 2007; Boeing Service Bulletin 747-53A2563, Revision 2, dated January 3, 2008; or Boeing Service Bulletin 747-53A2563, Revision 3, dated June 11, 2009.

Request To Add Exception to Inspection Requirements

BA notes that the Relevant Service Information section of the NPRM describes conditions under which certain inspections would not be required. BA requests that we revise that section to include the following additional exception:

Where the airplane has been delivered without fillet sealed lap joints (i.e., is not included in the listing in the SB appendix E), and the operator has not applied sealant to the lap joints during any maintenance or paint input, then lap joint inspections are not required.

The commenter adds that this condition is provided in Boeing Service Bulletin 747-53A2563, Revision 2, dated January 3, 2008.

We do not agree with the request. Appendix E of this service bulletin identifies airplanes that had fillet seals installed during production. Several operators subsequently removed the fillet seals, and a listing was needed to ensure that those airplanes delivered with fillet seals would be inspected. In addition, fillet seals might have been applied to lap joints at various times and subsequently removed, and maintenance records might not contain sufficient detail for such an exclusion. We have not changed the supplemental NPRM regarding this issue.

FAA's Determination and Proposed Requirements of the Supplemental NPRM

We are proposing this supplemental NPRM because we evaluated all pertinent information and determined an unsafe condition exists and is likely to exist or develop on other products of these same type designs. Certain changes described above expand the scope of the original NPRM. As a result, we have determined that it is necessary to reopen the comment period to provide additional opportunity for the public to comment on this supplemental NPRM.

Explanation of Change to Costs of Compliance

Since issuance of the original NPRM, we have increased the labor rate used in the Costs of Compliance from $80 per work-hour to $85 per work-hour. The Costs of Compliance information, below, reflects this increase in the specified hourly labor rate.

Costs of Compliance

There are about 1,038 airplanes of the affected design in the worldwide fleet. The following table provides the estimated costs for U.S. operators to comply with this supplemental NPRM.

Estimated Costs
Action | Work hours | Average labor rate per hour | Cost per airplane | Number of U.S.- registered airplanes | Fleet cost
Detailed inspections | 1,020 to 1,140 | $85 | $86,700 to $96,900 | 219 | $18,987,300 to $21,221,100.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2008-0107; Directorate Identifier 2007-NM-087-AD.

Comments Due Date

(a) We must receive comments by September 24, 2010.

Affected ADs

(b) None.

Applicability

(c) This AD applies to Boeing Model 747-100, 747-100B, 747-100B SUD, 747-200B, 747-200C, 747-200F, 747-300, 747-400, 747-400D, 747-400F, 747SP, and 747SR series airplanes, certificated in any category; as identified in Boeing Service Bulletin 747-53A2563, Revision 4, dated May 6, 2010.

Subject

(d) Air Transport Association (ATA) of America Code 53: Fuselage.

Unsafe Condition

(e) This AD results from reports of scribe lines found at lap joints and butt joints, around external doublers and antennas, and at locations where external decals had been cut. We are issuing this AD to detect and correct scribe lines, which can develop into fatigue cracks in the skin and cause sudden decompression of the airplane.

Compliance

(f) You are responsible for having the actions required by this AD performed within the compliance times specified, unless the actions have already been done.

Inspection

(g) At the applicable times specified in Tables 1 through 21 and Table 25 in paragraph 1.E., “Compliance,” of Boeing Service Bulletin 747-53A2563, Revision 4, dated May 6, 2010, except as provided in paragraph (h) of this AD, do detailed inspections for scribe lines of affected lap and butt splices, wing-to-body fairing locations, and external repair and cutout reinforcement areas, and do all applicable related investigative and corrective actions, by accomplishing all actions specified in the Accomplishment Instructions of Boeing Service Bulletin 747-53A2563, Revision 4, dated May 6, 2010, except as provided by paragraph (i) of this AD.

Note 1: The inspection exemptions noted in paragraph 1.E., “Compliance,” of Boeing Service Bulletin 747-53A2563, Revision 4, dated May 6, 2010, apply to this AD provided that the operator meets the requirements stated in each applicable exemption.

Exceptions to Service Bulletin Specifications

(h) Where Boeing Service Bulletin 747-53A2563, Revision 4, dated May 6, 2010, specifies a compliance time after the date on that revision or any previous issue of Boeing Service Bulletin 747-53A2563, this AD requires compliance within the specified compliance time after the effective date of this AD. Where Boeing Service Bulletin 747-53A2563 states that airplane flight-cycle time shall be calculated after the “issue date on this service bulletin,” this AD requires the airplane flight-cycle time to be calculated as of the effective date of this AD.

(i) Where Boeing Service Bulletin 747-53A2563, Revision 4, dated May 6, 2010, specifies to contact Boeing for appropriate action, accomplish applicable actions before further flight using a method approved in accordance with the procedures specified in paragraph (m) of this AD.

Report

(j) At the applicable time specified in paragraph (j)(1) or (j)(2) of this AD: Submit a report of the findings (both positive and negative) of the inspections required by paragraphs (g) and (k) of this AD. Send the report to Boeing Commercial Airplanes, P.O. Box 3707, Seattle, Washington 98124-2207. The report must contain, at a minimum, the inspection results, a description of any discrepancies including maximum scribe depth, the airplane serial number, and the number of flight cycles and flight hours on the airplane. Under the provisions of the Paperwork Reduction Act (44 U.S.C. 3501 et seq.), the Office of Management and Budget (OMB) has approved the information collection requirements contained in this AD and has assigned OMB Control Number 2120-0056.

(1) If the inspection was done on or after the effective date of this AD: Submit the report within 30 days after the inspection.

(2) If the inspection was done before the effective date of this AD: Submit the report within 30 days after the effective date of this AD.

Actions Accomplished According to Previous Issues of Service Bulletin

(k) For airplanes that have been inspected before the effective date of this AD in accordance with the service information specified in Table 1 of this AD: At the applicable times specified in Tables 22 through 24 and Tables 26 through 29 of paragraph 1.E., “Compliance,” of Boeing Service Bulletin 747-53A2563, Revision 4, dated May 6, 2010, except as provided in paragraph (h) of this AD, do detailed inspections for scribe lines of affected lap splices, butt splices and cargo door lap splices; and do detailed and surface high frequency eddy current or ultrasonic inspections of scribe lines, and do all applicable related investigative and corrective actions, by accomplishing all the applicable actions specified in the Accomplishment Instructions of Boeing Service Bulletin 747-53A2563, Revision 4, dated May 6, 2010, except as provided by paragraph (i) of this AD.

Table 1—Credit Service Bulletins
Document | Revision | Date
Boeing Alert Service Bulletin 747-53A2563 | Original | March 29, 2007.
Boeing Service Bulletin 747-53A2563 | 2 | January 3, 2008.
Boeing Service Bulletin 747-53A2563 | 3 | June 11, 2009.

Note 2: Boeing Alert Service Bulletin 747-53A2563, Revision 1, dated November 8, 2007, was published with omitted information. Actions accomplished according to Boeing Alert Service Bulletin 747-53A2563, Revision 1, dated November 8, 2007, are not considered acceptable for compliance with this AD.

(l) Actions accomplished before the effective date of this AD according to the service information identified in Table 1 of this AD are considered acceptable for compliance with the corresponding actions specified in paragraph (g) of this AD, except as required by paragraph (k) of this AD.

Alternative Methods of Compliance (AMOCs)

(m)(1) The Manager, Seattle Aircraft Certification Office, FAA, has the authority to approve AMOCs for this AD, if requested using the procedures found in 14 CFR 39.19. Send information to ATTN: Nicholas Han, Aerospace Engineer, Airframe Branch, ANM-120S, FAA, Seattle Aircraft Certification Office, 1601 Lind Avenue, SW., Renton, Washington 98057-3356; telephone (425) 917-6449; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD, if it is approved by the Boeing Commercial Airplanes Organization Designation Authority (ODA) that has been authorized by the Manager, Seattle ACO, to make those findings. For a repair method to be approved, the repair must meet the certification basis of the airplane, and the approval must specifically refer to this AD.

Issued in Renton, Washington, on August 13, 2010.
Ali Bahrami,
Manager, Transport Airplane Directorate, Aircraft Certification Service.

[FR Doc. 2010-21523 Filed 8-27-10; 8:45 am]

BILLING CODE 4910-13-P